DEPARTMENT OF COMMERCE

International Trade Administration

[A-602-807, A-351-842, A-570-022, A-560-828, A-471-807]

Certain Uncoated Paper From Australia, Brazil, the People's Republic of China, Indonesia, and Portugal: Postponement of Preliminary Determinations of Antidumping Duty Investigations

AGENCY: Enforcement and Compliance, International Trade Administration, Department of Commerce.

DATES: Effective Date: June 1, 2015.

FOR FURTHER INFORMATION CONTACT: Eve Wang at (202) 482-6231 (Australia); Julia Hancock at (202) 482-1394 (Brazil); Stephanie Moore at (202) 482-3692 (the People's Republic of China (PRC)); Blaine Wiltse at (202) 482-6345 (Indonesia); and Kabir Archuletta at (202) 482-2593 (Portugal), AD/CVD Operations, Enforcement and Compliance, U.S. Department of Commerce, 14th Street and Constitution Avenue NW., Washington, DC 20230.

SUPPLEMENTARY INFORMATION:

Background

On February 10, 2015, the Department of Commerce (the Department) initiated antidumping duty (AD) investigations of imports of certain uncoated paper (uncoated paper) from Australia, Brazil, the PRC, Indonesia, and Portugal.¹ The notice of initiation stated that, in accordance with section 733(b)(1)(A) of the Act and 19 CFR 351.205(b)(1), we would issue our preliminary determinations no later than 140 days after the date of initiation, unless postponed. Currently, the preliminary determinations in these investigations are due no later than June 30, 2015.

¹ See Certain Uncoated Paper from Australia, Brazil, the People's Republic of China, Indonesia, and Portugal: Initiation of Less-Than-Fair-Value Investigations, 80 FR 8608 (February 18, 2015).

Postponement of Preliminary Determinations

Section 733(b)(1)(A) of the Tariff Act of 1930, as amended (the Act) and 19 CFR 351.205(b)(1), require the Department to issue the preliminary determination in an AD investigation within 140 days after the date on which the Department initiated the investigation. However, if the petitioner makes a timely request for an extension in accordance with 19 CFR 351.205(e), section 733(c)(1)(A) of the Act allows the Department to postpone the preliminary determination until no later than 190 days after the date on which the Department initiated the investigation.

On May 15, 2015 and May 18, 2015, United Steel, Paper and Forestry, Rubber, Manufacturing, Energy, Allied Industrial and Service Workers International Union (USW); Domtar Corporation; Finch Paper LLC; P.H. Glatfelter Company; and Packaging Corporation of America (collectively, the “petitioners”) made timely requests, pursuant to section 733(c)(1)(A) of the Act and 19 CFR 351.205(e), for a 50-day postponement of the preliminary determinations in the investigations.² The petitioners stated that a postponement of the preliminary determinations in all five of the uncoated paper AD investigations is necessary because it may not be feasible for the Department to analyze questionnaire responses, identify issues, and develop the respective case records of the aforementioned investigations as necessary within the current schedule.³ With respect to the AD investigation of uncoated paper from the PRC, the petitioners indicated that a postponement is warranted because it is not feasible to resolve the necessary surrogate country selection and valuation issues within the current schedule.⁴

² See petitioners' letters to the Department dated May 15, 2015 and May 18, 2015.

³ Id.

⁴ See petitioners' letter to the Department dated May 18, 2015 at 1.

Under section 733(c)(1)(A) of the Act, if a petitioner makes a timely request for an extension of the period within which the preliminary determination must be made under subsection (b)(1), then the Department may postpone making the preliminary determination under subsection (b)(1) until not later than the 190th day after the date on which the administering authority initiated the investigation. Therefore, for the reasons stated above, and because we find there are no compelling reasons to deny the petitioners' requests, the Department is postponing the preliminary determinations in these investigations until August 19, 2015, which is 190 days from the date on which the Department initiated these investigations.

Pursuant to section 735(a)(1) of the Act and 19 CFR 351.210(b)(1), the deadline for the final determinations will continue to be 75 days after the date of the preliminary determinations, unless this deadline is extended.

This notice is issued and published pursuant to section 733(c)(2) of the Act and 19 CFR 351.205(f)(1).

Dated: May 21, 2015.
Ronald K. Lorentzen,
Acting Assistant Secretary for Enforcement and Compliance.

[FR Doc. 2015-13044 Filed 5-29-15; 8:45 am]

BILLING CODE 3510-DS-P